NUCLEAR REGULATORY COMMISSION

Advisory Committee on Nuclear Waste; Notice of Meeting

The Advisory Committee on Nuclear Waste (ACNW) will hold its 130th meeting on November 27-29, 2001, at 11545 Rockville Pike, Rockville, Maryland, Room T-2B3.

The entire meeting will be open to public attendance.

The schedule for this meeting is as follows:

Tuesday, November 27, 2001

A. 8:30-9:30 A.M.: Opening Statement/Planning and Procedures (Open)—The Chairman will open the meeting with brief opening remarks. The Committee will then review items under consideration at this meeting and consider topics proposed for future ACNW meetings.

B. 9:45-10:00 A.M.: Introductory Comments Statement of Objectives and Overview (Open)—The Chairman will state the objectives of the Workshop and provide an overview.

C. 10:00-10:45 A.M.: Technical Issues Associated with Future Regulatory Decisions (Open)—Panelists will discuss forthcoming regulatory issues and the additional work required from their perspective to provide the information needed for the future regulatory decisions.

D. 10:45-4:30 P.M. : Knowledge and Technical Tools Needed for Future Regulatory Decisions (Open)—Presentations will be provided on the knowledge and technical tools needed for future regulatory decisions, focusing on radionuclide transport and source term. A panel discussion will formally conclude this session and audience participation will be invited.

E. 4:30-5:15 P.M.: Performance Confirmation for the Proposed High Level Waste Repository at Yucca Mountain, NV (Open)—The Committee will receive an information briefing on the NRC staff's performance confirmation plans for Yucca Mountain, NV.

F. 5:30-6:00 P.M.: Discussion of Proposed ACNW Reports (Open)—The Committee will discuss proposed ACNW reports on Yucca Mountain Performance Confirmation, ACRS/ACNW November 14, 2001 Joint Subcommittee Meeting on Risk-Informed Regulation in NMSS, GTCC Waste and Sealed Source Issue and Conservatism.

Wednesday, November 28, 2001

G. 8:30-8:35 A.M.: Opening Remarks by the ACNW Chairman (Open)—The ACNW Chairman will make opening remarks regarding the conduct of the meeting.

H. 8:35-9:00 A.M.: Summary of Discussion from the First Day (Open)—Members, with input from workshop participants, will summarize key observations from first day presentations/ discussions.

I. 9:00-12:15 P.M.: Knowledge and Technical Tools Needed for Future Regulatory Decisions-What Research is Needed (Open)—Presentations will be provided by experts in selected areas as to how research can be used to develop the needed knowledge and technical tools.

J. 1:15-4:30 P.M.: Prioritization of NRC-Sponsored Research—How Should It Be Done (Open)—Panelists will present their perspectives as to how to address what research projects are necessary and will add the most value to the relevant regulatory decisions.

K. 4:30-5:30 P.M.: Workshop Summary and General Discussion (Open)—Discussion among Members and meeting participants as to workshop findings and a summarization of key observations resulting from this two day workshop.

L. 5:45-6:00 P.M.: Preparation for Meeting with the NRC Commissioners (Open)—The next meeting with the Commissioners is scheduled to be held in the Commission Conference Room at 9:30 a.m. in One White Flint North on January 9, 2002. The Committee will review its proposed presentations. The following items will be discussed:

• Sufficiency Review

• TSPA-SR

• Research Program in Radioactive Waste

• Chemistry Issues

• Risk-Informed Performance-Based Regulation of Waste

Thursday, November 29, 2001

M. 8:30-8:35 A.M.: Opening Remarks by the ACNW Chairman (Open)—The ACNW Chairman will make opening remarks regarding the conduct of the meeting.

N. 8:35-11:45 A.M.: Supplemental Science and Performance Analysis (SSPA) (Open)—The Committee will receive input on the SSPA from representatives from the following: NRC, Clark County, NV, and DOE.

O. 12:45-3:30 P.M.: Preparation of ACNW Reports (Open)—The Committee will continue its discussion of proposed ACNW reports.

P. 3:30-4:00 P.M.: Miscellaneous (Open)—The Committee will discuss matters related to the conduct of Committee activities and matters and specific issues that were not completed during previous meetings, as time and availability of information permit.

Procedures for the conduct of and participation in ACNW meetings were published in the Federal Register on October 3, 2001 (66 FR 50461). In accordance with these procedures, oral or written statements may be presented by members of the public, electronic recordings will be permitted only during those portions of the meeting that are open to the public, and questions may be asked only by members of the Committee, its consultants, and staff. Persons desiring to make oral statements should notify Howard J. Larson, ACNW, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office, prior to the meeting. In view of the possibility that the schedule for ACNW meetings may be adjusted by the Chairman as necessary to facilitate the conduct of the meeting, persons planning to attend should notify Mr. Larson as to their particular needs. Further information regarding topics to be discussed, whether the meeting has been canceled or rescheduled, the Chairman's ruling on requests for the opportunity to present oral statements and the time allotted therefore can be obtained by contacting Mr. Howard J. Larson, ACNW (Telephone 301/415-6805), between 8:00 A.M. and 4:00 P.M. EST.

ACNW meeting notices, meeting transcripts, and letter reports are now available for downloading or viewing on the internet at http://www.nrc.gov/ACRSACNW.

Videoteleconferencing service is available for observing open sessions of ACNW meetings. Those wishing to use this service for observing ACNW meetings should contact Mr. Theron Brown, ACNW Audiovisual Technician (301/415-8066), between 7:30 a.m. and 3:45 p.m. EST at least 10 days before the meeting to ensure the availability of this service. Individuals or organizations requesting this service will be responsible for telephone line charges and for providing the equipment and facilities that they use to establish the videoteleconferencing link. The availability of videoteleconferencing services is not guaranteed.

Dated: October 5, 2001.
Andrew L. Bates,
Advisory Committee Management Officer.

[FR Doc. 01-28183 Filed 11-8-01; 8:45 am]

BILLING CODE 7590-01-P